DEPARTMENT OF HOMELAND SECURITY

U.S. Customs and Border Protection

Delayed Deployment Date for Modification of Test Program Regarding Electronic Foreign Trade Zone Admission Applications for Expanded Zone Identification Numbers

AGENCY: U.S. Customs and Border Protection, Department of Homeland Security.

ACTION: General notice.

SUMMARY: This notice announces that the deployment date for the expanded zone identification number modifications to the electronic Foreign Trade Zone admission applications test is delayed until April 25, 2021. On September 25, 2020, U.S. Customs and Border Protection published a notice in the Federal Register announcing modifications to the electronic FTZ admission applications test including, inter alia, the expansion of the zone identification number from seven to nine digits. These zone identification number changes were to have been implemented on January 25, 2021, and this notice announces that the deployment date in the Automated Commercial Environment is delayed until April 25, 2021.

DATES: The expanded zone identification number will be implemented as of April 25, 2021. This test will continue until concluded by way of announcement in the Federal Register.

ADDRESSES: Comments concerning this notice and any aspect of this test may be submitted at any time during the test via email to Cargo & Conveyance Security, Office of Field Operations, U.S. Customs and Border Protection, at FTZe214Test@cbp.dhs.gov, with a subject line identifier reading “Comment on Electronic FTZ Admission Application FRN.”

FOR FURTHER INFORMATION CONTACT: For operational questions, contact Lydia Jackson, Cargo & Conveyance Security, Office of Field Operations, U.S. Customs and Border Protection, at 202-344-3055 or FTZe214Test@cbp.dhs.gov. For technical questions, contact Arnold Buratty, Cargo Systems Program Directorate, Office of Information and Technology, U.S. Customs and Border Protection, at 571-468-5309 or Arnold.Buratty@cbp.dhs.gov.

SUPPLEMENTARY INFORMATION:

Background

On September 25, 2020, U.S. Customs and Border Protection (CBP) published a notice entitled “Modification of Test Program Regarding Electronic Foreign Trade Zone Admission Applications” in the Federal Register (85 FR 60479). The test is part of the National Customs Automation Program (NCAP), which was established by Subtitle B of Title VI—Customs Modernization in the North American Free Trade Agreement (NAFTA) Implementation Act (Customs Modernization Act) (Pub. L. 103-182, 107 Stat. 2057, 2170, December 8, 1993) (19 U.S.C. 1411). The notice announced modifications to the electronic Foreign Trade Zone (FTZ) admission applications test including, inter alia, the expansion of the zone identification (ID) number from seven to nine digits. The deployment date in the Automated Commercial Environment (ACE) for the modifications regarding the expanded zone ID number was to have been January 25, 2021.

Subsequent to publishing the September 25, 2020, notice in the Federal Register, CBP published the relevant updates in the ACE FTZ chapter of the CBP and Trade Automated Interface Requirements (CATAIR), available at: https://www.cbp.gov/trade/ace/catair. CBP has assessed stakeholder readiness and determined that a delayed deployment date in ACE for the modifications regarding the expanded zone ID number is in the best interests of all parties involved. Delaying the deployment date will allow for the required programming modifications on the part of trade participants (specifically by allowing additional time to code and test) and will also provide CBP with more time to coordinate with local zone operators (who will be receiving new zone ID numbers). Accordingly, the deployment date in ACE for the modifications of the electronic FTZ admission application test regarding the expanded zone ID number is April 25, 2021.

Dated: December 31, 2020.
William A. Ferrara,
Executive Assistant Commissioner, Office of Field Operations.

[FR Doc. 2021-00006 Filed 1-6-21; 8:45 am]

BILLING CODE 9111-14-P